DEPARTMENT OF DEFENSE

Department of the Army

Privacy Act of 1974; System of Records

AGENCY: Department of the Army, DoD.

ACTION: Notice to amend a system of records.

SUMMARY: The Department of the Army is amending a system of records notice in its existing inventory of record systems subject to the Privacy Act of 1974, (5 U.S.C. 552a), as amended.

DATES: This proposed action will be effective without further notice on April 28, 2000 unless comments are received which result in a contrary determination.

ADDRESSES: Privacy Act System Notice Manager, Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: March 23, 2000.
L.M. Bynum,
Alternate OSD Federal Register Liaison Officer, Department of Defense.

A0040-400 DASG

SYSTEM NAME:

Entrance Medical Examination Files (August 7, 1997, 62 FR 42532).

Changes:

* * * * *

Categories of individuals covered by the system:

Delete entry and replace with ‘Individuals who enroll in the Reserve Officers Training Corps (nonscholarship) program, enlist or are appointed in the active or reserve units of the Armed Forces. ’

* * * * *

Retrievability:

Delete entry and replace with ‘By individua’s surname and Social Security Number.'

* * * * *

Retention and disposal:

Delete entry and replace with ‘Original SF 88 and SF 93 become permanent documents in individual’s Health Record: 1 copy of these forms and supporting documentation is retained by the military entrance processing station examining facility for 2 years; 1 copy is forwarded to the Department of Defense Medical Review Board where it is retained until no longer needed then destroyed. Medical records on qualified applicants are retained for 2 years then destroyed. Records of individuals rejected for military service will be maintained until all requirements of Pub.L. 104-201 are met and until a records disposition is obtained from the National Archives and Records Administration.'

* * * * *

A0040-400 DASG

System name:

Entrance Medical Examination Files.

System location:

Army medical examining facilities; military entrance processing stations (for enlistees); Department of Defense Medical Review Board, U.S. Academy, CO 80840-2200 (except for reservists). Official mailing addresses are published as an appendix to the Army's compilation of record systems notices.

Categories of individuals covered by the system:

Individuals who enroll in the Reserve Officers Training Corps (nonscholarship) program, enlist or are appointed in the active or reserve units of the Armed Forces.

Categories of records in the system:

Entrance medical examination and resulting documentation such as SF 88, Report of Medical Examination, and SF 93, Report of Medical History, together with relevant and supporting documents.

Authority for maintenance of the system:

10 U.S.C. 3013, Secretary of the Army; 10 U.S.C., Chapter 55; Army Regulation 601-270, Military Entrance Processing Station; and E.O. 9397 (SSN).

Purpose(s):

To determine medical acceptance of applicant for military service and thereafter to properly assign and use individual. Management data are derived from and used by Health Services Command to evaluate effectiveness of procurement medical standards.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders; selected management data are stored on word processing or magnetic discs and tapes.

Retrievability:

By individual's surname and Social Security Number.

Safeguards:

Records are maintained in secured buildings, accessible only to authorized personnel.

Retention and disposal:

Original SF 88 and SF 93 become permanent documents in individual's Health Record: 1 copy of these forms and supporting documentation is retained by the military entrance processing station examining facility for 2 years; 1 copy is forwarded to the Department of Defense Medical Review Board where it is retained until no longer needed then destroyed. Medical records on qualified applicants are retained for 2 years then destroyed. Records of individuals rejected for military service will be maintained until all requirements of Pub.L. 104-201 are met and until a records disposition is obtained from the National Archives and Records Administration.

System manager(s) and address:

Chief Information Officer, Office of the Surgeon General, U.S. Army Medical Command, 2050 Worth Road, Suite 13, Fort Sam Houston, TX 78234-6013.

Notification procedure:

Individuals seeking to determine whether information about themselves is contained in this system should address written inquiries to the commander of the medical examining facility where physical examination was given. Official mailing addresses are published as an appendix to the Army's compilation of systems of records notices.

For verification purposes, the individual should provide their full name, Social Security Number, home address, approximate date of the examination, and signature.

Record access procedures:

Individuals seeking access to information about themselves contained in this system should address written inquiries to the commander of the medical examining facility where physical examination was given. Official mailing addresses are published as an appendix to the Army's compilation of systems of records notices.

For verification purposes, the individual should provide their full name, Social Security Number, home address, approximate date of the examination, and signature.

Contesting record procedures:

The Army's rules for accessing records, and for contesting contents and appealing initial agency determinations are contained in Army Regulation 340-21; 32 CFR part 505; or may be obtained from the system manager.

Record source categories:

From the individual; the physician and other medical personnel.

Exemptions claimed for the system:

None.

A0351 DAPE

System name:

Army Training Requirements and Resources System (ATRRS) (February 22, 1993, 58 FR 10002).

Changes:

* * * * *

Purpose:

Delete entry and replace with ‘The Army Training Requirements and Resources System is the system of records for the management of personnel input to training for the Army; is the repository for training requirements, training programs, selected training cost data, and training personnel data; contains detailed class information on all courses taught and taken by Army personnel; and produces reports and analyses and can display selected data pertinent to training-requirements, programs, inputs, graduates, loads and associated information.

Training managers use this information to schedule classes, fill training seats, and train soldiers.

The major subsystems of the Army Training Requirements and Resources System include:

(a) The Mobilization Planning System is used to plan individual training requirements and training programs for all courses upon mobilization. The product of Mobilization Planning System is the Mobilization Army Program for Individual Training.

(b) The Structure Manning Decision Review (SMDR) is the process for reviewing training requirements and modifying them into executable training programs based on available resources. The product of the SMDR is the Army Program for Individual Training which is the mission and resourcing document used by schools and training centers to establish class schedule. Additionally, the Training Resource Arbitration Panel is used to adjust training programs during the execution year.

(c) The Student Trainee Management System-Enlisted manages initial entry training seats and provides projected graduate information to PERSCOM.

(d) The Quota Management System is used to allocate training quotas by class and redistribute those seats among components in order to maximize the fill of training seats.’

Storage:

Delete entry and replace with ‘Electronic storage medium’.

Retrievability:

Delete entry and replace with ‘Retrieved by individual’s name and Social Security Number.'

Safeguards:

Delete entry and replace with ‘Visitor registration system is in effect. Hard copy printouts which contain data by Social Security Number are maintained with an ‘Official Use Only’ cover. Access to the Army Training Requirements and Resources System is limited to authorized personnel and as determined by the system manager.'

Retention and disposal:

Delete entry and replace with ‘Records are destroyed when no longer needed for current operations.’

* * * * *

A0351 DAPE

System name:

Army Training Requirements and Resources System (ATRRS).

System location:

Deputy Chief of Staff for Personnel, Headquarters, Department of the Army, 300 Army Pentagon, Washington, DC 20310-0300; U.S. Army Personnel Command; major commands; Army Reserve Personnel Center; National Guard Bureau; Schools and Army Training Centers worldwide. Official mailing addresses are published as an appendix to the Army's compilation of systems of records notices.

Categories of individuals covered by the system:

Members of the Army, Navy, Air Force, Marine Corps, Reserve Officers' Training Corps students, Department of Defense (DoD) civilian employees and approved foreign military personnel attending a course of instruction conducted under the auspices of all Army schools and some DoD schools.

Categories of records in the system:

The system contains records pertaining to course administrative data, course scope and prerequisites, course training requirements, course equipment, personnel and facilities constraints, requirements for instructors, class schedules, class quotas, prioritized order of merit list for input into Noncommissioned Officers Education System (NCOES) training, by name reservations, limited individual personnel data, and course input and completion data by name/Social Security Number. Data related to an individual is as follows:

Training course completion data and reason codes for attrition are maintained for an individual, as well as training seat reservations.

Limited personnel data is maintained on an individual as long as the individual has a valid reservation for training or is currently in the training base.

Authority for maintenance of the system:

5 U.S.C. 301, Departmental Regulations; 10 U.S.C. 3013, Secretary of the Army and 4301; and E.O. 9397 (SSN).

Purpose(s):

The Army Training Requirements and Resources System is the system of records for the management of personnel input to training for the Army; is the repository for training requirements, training programs, selected training cost data, and training personnel data; contains detailed class information on all courses taught and taken by Army personnel; and produces reports and analyses and can display selected data pertinent to training-requirements, programs, inputs, graduates, loads and associated information.

Training managers use this information to schedule classes, fill training seats, and train soldiers.

The major subsystems of the Army Training Requirements and Resources System include:

(a) The Mobilization Planning System is used to plan individual training requirements and training programs for all courses upon mobilization. The product of Mobilization Planning System is the Mobilization Army Program for Individual Training.

(b) The Structure Manning Decision Review (SMDR) is the process for reviewing training requirements and modifying them into executable training programs based on available resources. The product of the SMDR is the Army Program for Individual Training which is the mission and resourcing document used by schools and training centers to establish class schedule. Additionally, the Training Resource Arbitration Panel is used to adjust training programs during the execution year.

(c) The Student Trainee Management System-Enlisted manages initial entry training seats and provides projected graduate information to PERSCOM.

(d) The Quota Management System is used to allocate training quotas by class and redistribute those seats among components in order to maximize the fill of training seats.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Electronic storage medium.

Retrievability:

Retrieved by individual's name and Social Security Number.

Safeguards:

Visitor registration system is in effect. Hard copy printouts which contain data by Social Security Number are maintained with an ‘Official Use Only’ cover. Access to the Army Training Requirements and Resources System is limited to authorized personnel and as determined by the system manager.

Retention and disposal:

Records are destroyed when no longer needed for current operations.

System manager(s) and address:

Deputy Chief of Staff for Personnel, Headquarters, Department of the Army, 300 Army Pentagon, Washington, DC 20310-0300.

Notification procedure:

Individuals seeking to determine whether information about themselves is contained in this system should address written inquiries to the local commander. Official mailing addresses are published as an appendix to the Army's compilation of systems of records notices.

Individual should provide the full name, Social Security Number, and military status or other information verifiable from the record itself.

Record access procedures:

Individuals seeking access to information about themselves is contained in this system should address written inquiries to the local commander. Official mailing addresses are published as an appendix to the Army's compilation of systems of records notices.

Individual should provide the full name, Social Security Number, and military status or other information verifiable from the record itself.

Contesting record procedures:

The Army rules for accessing records, and for contesting contents and appealing initial agency determinations are contained in Army Regulation 340-21; 32 CFR part 505; or may be obtained from the system manager.

Record source categories:

Information is received from DoD staff, field installations, and automated systems.

Exemptions claimed for the system:

None.

A0601-270 USMEPCOM

System name:

U.S. Military Entrance Processing Reporting System (February 22, 1993, 58 FR 10002).

Changes:

* * * * *

Categories of individuals covered by the system:

Delete entry and replace with ‘All individuals who report to a military entrance processing station to be aptitudinally tested and/or medically examined to determine their fitness for entry into one of the Armed Forces.’

Categories of records in the system:

Delete ‘physical’ and replace with ‘medical’ in the second sentence.

* * * * *

Routine uses of records maintained in the system, including categories of users and the purposes of such uses:

Delete ‘and to National Guard for performance of its duties’ from the entry.

* * * * *

Safeguards:

Delete entry and replace with ‘All data are retained in locked rooms/compartments with access limited to personnel designated as having official need therefor. Access to computerized data is by use of a valid user ID and password code assigned to the individual video display terminal operator.’

Retention and disposal:

Delete entry and replace with ‘Each military entrance processing station retains a copy of reporting system source documents for each enlistee for 90 days after shipment. For all other applicants, each station retains, if applicable, a copy of the Report of Medical Examination with supporting documentation, the Report of Medical History, and any other reporting source documents, for a period not to exceed 2 years, after which they are destroyed. Originals or copies of documents are filed permanently in Official Personnel Files for acceptable applicants and transferred to the gaining Armed Force. Information relating to the individualrquote s who become seriously ill or are injured while at MEPS, or were found disqualified for a condition considered dangerous to the individualrquote s health if left untreated, records will be maintained until all requirements of Pub.L. 104-201 are met and until a records disposition is obtained from the National Archives and Records Administration. ’

* * * * *

A0601-270 USMEPCOM

System name:

U.S. Military Entrance Processing Reporting System.

System location:

Primary location: United States Military Entrance Processing Command, 2834 Green Bay Road, North Chicago, IL 60064-3094. Segments exist at 65 military entrance processing stations in the continental United States, Alaska, Puerto Rico, and Hawaii. Official mailing addresses are published as an appendix to the Army's compilation of record system notices.

Categories of individuals covered by the system:

All individuals who report to a military entrance processing station (MEPS) to be aptitudinally tested and/or medically examined to determine their fitness for entry into one of the Armed Services.

Categories of records in the system:

Various personnel data, such as individual's name, Social Security Number, date and place of birth, home address and telephone number, results of aptitude tests, physical examination, and relevant documentation concerning individual's acceptance/rejection for military service.

Authority for maintenance of the system:

10 U.S.C. 3013, Secretary of the Army; Army Regulation 601-270, Military Entrance Processing Station (MEPS); and E.O. 9397 (SSN).

Purpose(s):

To determine qualifications of applicants for the Armed Forces through aptitude testing, medical examination, and administrative processing.

To determine patterns and trends in the military population, and for statistical analyses.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information is disclosed to the Selective Service System (SSS) to update the SSS registrant data base.

Information may also be disclosed to local and state Government agencies for compliance with laws and regulations governing control of communicable diseases.

The ‘Blanket Routine Uses’ set forth at the beginning of the Army's compilation of systems of records notices also apply to this system.

Policies and practices for storing, retrieving, accessing, retaining, and disposing of records in the system:

Storage:

Paper records and magnetic tapes/discs.

Retrievability:

By name and Social Security Number.

Safeguards:

All data are retained in locked rooms/compartments with access limited to personnel designated as having official need therefor. Access to computerized data is by use of a valid user ID and password code assigned to the individual video display terminal operator.

Retention and disposal:

Each military entrance processing station retains a copy of reporting system source documents for each enlistee for 90 days after shipment. For all other applicants, each station retains, if applicable, a copy of the Report of Medical Examination with supporting documentation, the Report of Medical History, and any other reporting source documents, for a period not to exceed 2 years, after which they are destroyed. Originals or copies of documents are filed permanently in Official Personnel Files for acceptable applicants and transferred to the gaining Armed Force. Information relating to the individual's who become seriously ill or are injured while at MEPS, or were found disqualified for a condition considered dangerous to the individual's health if left untreated, records will be maintained until all requirements of Pub.L. 104-201 are met and until a records disposition is obtained from the National Archives and Records Administration.

System manager(s) and address:

Commander, U.S. Military Entrance Processing Command, 2834 Green Bay Road, North Chicago, IL 60064-3094.

Notification procedure:

Individuals seeking to determine if information about themselves is contained in this record system should address written inquiries to the Commander, U.S. Military Entrance Processing Command, 2834 Green Bay Road, North Chicago, IL 60064-3094.

Individual should provide the full name, Social Security Number, and military status or other information verifiable from the record itself.

Record access procedures:

Individuals seeking access to records about themselves contained in this record system should address written inquiries to the Commander, U.S. Military Entrance Processing Command, 2834 Green Bay Road, North Chicago, IL 60064-3094.

Individual should provide the full name, Social Security Number, and military status or other information verifiable from the record itself.

On personal visits, individual should provide acceptable identification such as valid driver's license, employer identification card, building pass, etc.

Contesting record procedures:

The Army's rules for accessing records, and for contesting contents and appealing initial agency determinations are published in the Department of the Army Regulation 340-21; 32 CFR part 505; or may be obtained from the system manager.

Record source categories:

From the individual, physicians, results of tests, federal/state/local law enforcement activities/agencies.

Exemptions claimed for the system:

None.

[FR Doc. 00-7664 Filed 3-28-00; 8:45 am]

BILLING CODE 5001-10-F